DEPARTMENT OF STATE

[Delegation of Authority No. 512]

Delegation of Authority To Concur With Requests From DoD To Enter Into Public-Private Partnerships With Foreign Governments

By virtue of the authority vested in me as Secretary of State by the laws of the United States, including 22 U.S.C. 2651a, I hereby delegate to the Assistant Secretary for Political-Military Affairs, to the extent authorized by law, the authority to concur on behalf of the Department on future requests from the Department of Defense to enter into public-private partnerships with foreign governments or foreign entities under 10 U.S.C. 1501a.

Exercise of this authority is subject to clearance by the relevant regional bureau(s) and the Office of the Legal Adviser. Any act, regulation, or procedure subject to, or affected by, this delegation shall be deemed to be such act, regulation, or procedure as amended from time to time.

The Secretary, Deputy Secretary, Deputy Secretary for Management and Resources, and the Under Secretary for Arms Control and International Security may exercise any function or authority delegated by this delegation.

This memorandum shall be published in the Federal Register.

Dated: February 22, 2021.
Antony J. Blinken,
Secretary of State, Department of State.

[FR Doc. 2021-04317 Filed 3-2-21; 8:45 am]

BILLING CODE 4710-25-P